CORPORATION FOR NATIONAL AND COMMUNITY SERVICE

Agency Information Collection Activities; Submission to the Office of Management and Budget for Review and Approval; Comment Request; Application Instructions for Commission Support Grants: How To Apply for State Service Commission Support Grants

AGENCY: Corporation for National and Community Service.

ACTION: Notice of information collection; request for comment.

SUMMARY: The Corporation for National and Community Service (CNCS) has submitted a public information collection request (ICR) entitled Application Instructions for Commission Support Grants: How to Apply for State Service Commission Support Grants for review and approval in accordance with the Paperwork Reduction Act.

DATES: Written comments must be submitted to the individual and office listed in the ADDRESSES section by December 28, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Arminda Pappas, at 202-606-6659 or by email to apappas@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 6, 2020 at 85 FR 40266. This comment period ended September 4, 2020. One public comment was received from this Notice. The comment was nonresponsive to the request for comment.

Title of Collection: Application Instructions for Commission Support Grants: How to Apply for State Service Commission Support Grants.

OMB Control Number: 3045-0099.

Type of Review: Renewal.

Respondents/Affected Public: Organizations OR State Governments.

Total Estimated Number of Annual Responses: 52.

Total Estimated Number of Annual Burden Hours: 1,924.

Abstract: The application instructions conform to the Corporation for National and Community Service's online grant application system, eGrants, which applicants must use to respond to CNCS Commission Support Grant funding opportunities. CNCS seeks to renew the current information collection. The revisions are intended to streamline the application process. The information collection will otherwise be used in the same manner as the existing application. CNCS also seeks to continue using the current application until the revised application is approved by OMB.

Dated: November 20, 2020.
Arminda Pappas,
Grant Review Manager.

[FR Doc. 2020-26187 Filed 11-25-20; 8:45 am]

BILLING CODE 6050-28-P